DEPARTMENT OF TRANSPORTATION

Federal Aviation Administration

Thirteenth Plenary Meeting, RTCA Special Committee 205/EUROCAE WG 71: Software Considerations in Aeronautical Systems

AGENCY: Federal Aviation Administration (FAA), DOT.

ACTION: Notice of RTCA Special Committee 205/EUROCAE WG 71: Software Considerations in Aeronautical Systems meeting.

SUMMARY: The FAA is issuing this notice to advise the public of a meeting of RTCA Special Committee 205/EUROCAE WG 71: Software Considerations in Aeronautical Systems.

DATES: The meeting will be held February 8-12, 2010.

ADDRESS: The meeting will be held at MainSail Hotel and Conference Center, 5108 Eisenhower Boulevard, Tampa, Florida 33634, Phone: (813) 243-2600.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 205: EUROCAE WG 71: Software Considerations in Aeronautical Systems meeting. The agenda will include:

Day 1—Monday, February 8, 2010

• 08:15 a.m.—Registration

• 08:30 a.m.—Chair's Introductory Remarks

• 08:45 a.m.—Facilities Review

• 08:50 a.m.—Recognition of the FAA Federal and EASA Representatives

• 09:00 a.m.—Review of Meeting Agenda and Agreement of Previous Minutes

• 09:15 a.m.—Host Presentation

• 09:30 a.m.—Reports of Sub-Group Activity

• 10:00 a.m.—Other Committee/Other Documents Interfacing Personnel Reports (CAST, Unmanned Aircraft Systems, Security, WG-63/SAE S-18)

• 10:30 a.m.—Break

• 10:45 a.m.—Sub-Group Break Out Sessions

• 10:45 a.m.—New Member Introduction Session—All new committee members are invited to attend an introduction session to explain the operation of the committee, the various sub-groups and the topics they are dealing with and the Web site.

• 11:45 a.m.—Lunch

• 13:00 p.m.—Sub-Group Break Out Sessions

• 13:00 p.m.—CAST Meeting

• 14:30 p.m.—Break

• 14:45 p.m.—Plenary Session: Text Acceptance (for papers posted, commented on and reworked prior to Plenary)

• 18:00 p.m.—Close of Day

Day 2—Tuesday, February 9, 2010

• 08:00 a.m.—Executive Committee and SG Chairs/Secretaries Meeting

• 08:30 a.m.—Sub-Group Break Out Sessions

• 10:00 a.m.—Break

• 10:30 a.m.—Sub-Group Break Out Sessions

• 12:30 p.m.—IP submittals due for Wednesday Plenary

• 12:45 p.m.—Lunch

• 14:00 p.m.—Sub-Group Break Out Sessions

• 14:45 p.m.—Break

• 15:00 p.m.—Mandatory Paper Reading Session

• 17:00 p.m.—Close

• 17:00 p.m.—Executive Committee and SG Chairs/Secretaries Meeting

Day 3—Wednesday, February 19, 2010

• 08:30 a.m.—IP Comment Reply & Sub-Group Break Out Sessions (focused on finalizing any changes to papers being presented later in the morning)

• 10:00 a.m.—Break

• 10:30 a.m.—IP Comment Reply & Sub-Group Break Out Sessions (cont.)

• 12:00 p.m.—Lunch

• 13:15 p.m.—Sub-Group Break Out Sessions

• 13:15 p.m.—CAST Meeting

• 14:45 p.m.—Break

• 15:00 p.m.—Plenary Text Acceptance (for papers posted, commented on and reworked prior to Plenary)

Note: If required for text acceptance, the end time for this session may extend up to 19:30 p.m.

• 18:00 p.m.—Close

• Evening—Social Event

Day 4—Thursday, February 11, 2010

• 08:30 a.m.—Sub-Group Break Out Sessions

• 10:00 a.m.—Break

• 10:30 a.m.—Sub-Group Break Out Sessions

• 12:30 p.m.—IP submittals due for Friday Plenary

• 12:30 p.m.—Lunch

• 13:30 p.m.—Plenary Session (if needed, otherwise SG Break Out Session)

• 14:45 p.m.—Break

• 15:00 p.m.—Mandatory Paper Reading Session

• 17:00 p.m.—Close

• 17:00 p.m.—Executive Committee and SG Chairs/Secretaries Meeting

Day 5—Friday, February 12, 2010

• 08:00 a.m.—IP Comment Reply & Sub-Group Break Out Sessions (focused on finalizing any changes to papers being presented during the morning)

• 09:30 a.m.—Break

• 10:00 a.m.—Plenary Text Approval.

• 12:00 p.m.—SG1: SCWG Document Integration Sub-Group Report

• 12:05 p.m.—SG2: Issue & Rationale Sub-Group Report

• 12:10 p.m.—SG3: Tool Qualification Sub-Group Report

• 12:15 p.m.—SG4: Model Based Design & Verification Sub-Group Report

• 12:20 p.m.—SG5: Object Oriented Technology Sub-Group Report

• 12:25 p.m.—SG6: Formal Methods Sub-Group Report

• 12:30 p.m.—SG7: Special Considerations Sub-Group Report

• 12:35 p.m.—Any Other Business and Next Meeting Information

• 12:40 p.m.—Closing Remarks & Meeting Adjourned

• 12:45 p.m.—Meeting Evaluation (Round Robin)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 11, 2010.
Francisco Estrada C.,
RTCA Advisory Committee.

[FR Doc. 2010-845 Filed 1-15-10; 8:45 am]

BILLING CODE 4910-13-P